DEPARTMENT OF TRANSPORTATION

Federal Highway Administration

Environmental Impact Statement: Sussex County, DE

AGENCIES: Federal Highway Administration (FHWA) and the Delaware Department of Transportation (DelDOT).

ACTION: Update of notice of intent.

SUMMARY: The FHWA is updating a previous notice of intent (issued on Friday, June 3, 2005) to advise the public that an Environmental Impact Statement (EIS) will be prepared for a proposed highway improvement project along US 113 in south central Sussex County, Delaware.

FOR FURTHER INFORMATION CONTACT: Mr. Nick Blendy, Environmental Specialist, Federal Highway Administration, DelMar Division, J. Allen Frear Federal Building, 300 South New Street, Room 2101, Dover, DE 19904; Telephone: (302) 734-2966; e-mail: nick.blendy@dot.gov or Mr. Monroe C. Hite, III, P.E., Project Manager, Delaware Department of Transportation, 800 Bay Road, P.O. Box 778, Dover, DE 19903; Telephone: (302) 760-2120; e-mail: Monroe.Hite@state.de.us or contact the DelDOT Public Relations Office (800) 652-5600 (in DE only) or (302) 760-2080.

SUPPLEMENTARY INFORMATION: The Federal Highway Administration (FHWA), in cooperation with the Delaware Department of Transportation (DelDOT), will prepare an Environmental Impact Statement (EIS) to consider changes to the existing US 113 corridor including access restrictions, additional travel lanes, and the construction of a potential new alignment in south central Sussex County, Delaware. The proposed limited access facility would link back to the existing US 113 corridor north of the Town of Millsboro and in the vicinity of the Delaware/Maryland state line in the Town of Selbyville.

In July 2001, DelDOT completed a feasibility study (Sussex County North-South Transportation Feasibility Study) to consider improvements for the US 113 corridor from the vicinity of Delaware Route 1 north of the City of Milford south to the Delaware/Maryland state line. Originally, the data and findings from the study indicated that upgrading the existing US 113 corridor is feasible and that improvements on new alignment or alignments, bypassing existing US 113, were a consideration in the Georgetown-South Area, which extends from the Town of Georgetown to the Delaware/Maryland state line (including the Towns of Georgetown, Millsboro, Dagsboro, Frankford, and Selbyville).

The current US 113 North/South Study was initiated in 2003 as the next step in the overall planning process for the US 113 corridor north of the City of Milford to the Town of Selbyville at the Delaware/Maryland state line, a distance of approximately 40 miles.

As a result of extensive public outreach and analysis of the anticipated impacts associated with a number of alternatives considered during the current US 113 North/South Study, FHWA and DelDOT have now determined that an Environmental Assessment (EA) is the appropriate class of action for the Georgetown Area (area in and around the Town of Georgetown) portion of the US 113 corridor identified in the original Notice of Intent.

Further, FHWA and DelDOT recommend that the Millsboro-South Area (area in and around the Towns of Millsboro, Dagsboro, Frankford, and Selbyville located in south central Sussex County, Delaware) portion of the US 113 corridor identified in the original Notice of Intent be studied separately from the remaining US 113 corridor, north of the Town of Millsboro, located in central to northern Sussex County. Because of the potential for new alignment alternative(s), access restrictions, and the resulting potential for significant impacts on the natural and human environment, the FHWA has determined that an EIS continues to be the appropriate class of action and documentation for any corridor changes that may be selected within the Millsboro-South Area of study, south of Georgetown.

A program of public involvement and coordination with Federal, State, and local agencies for the US 113 corridor began in 2003 and is ongoing. Both agency and public involvement have been extensive and will continue throughout project development. Comments have been solicited from appropriate Federal, State, and local agencies, and private organizations and citizens who have previously expressed or are known to have interest in this proposal. The initial Agency Scoping Meeting was held in January 2004, and the Purpose and Need process was completed with agency concurrence.

Public scoping meetings via public workshops were held and seven (7) rounds of informational meetings or public workshops have been conducted. Additional public workshops will be scheduled during the remainder of the planning study. In addition, a formal public hearing will be held after the draft EIS has been circulated. Public notice will be given announcing the time and place of all public meetings and the formal public hearing. The draft EIS will be available for public and agency review and comment prior to the public hearing on the draft EIS.

To ensure that the full range of issues related to this proposed action is addressed and all significant issues are identified, comments, and suggestions are invited from all interested parties. Comments or questions concerning the proposed actions and the EIS and EA documentation should be directed to the FHWA or DelDOT at the addresses provided above.

(Catalog of Federal Domestic Assistance Program Number 20.205, Highway Planning and Construction. The regulations implementing Executive Order 12372 regarding intergovernmental consultation on Federal programs and activities apply to this program.)

Hassan Raza,
Division Administrator, Dover, Delaware.

[FR Doc. E8-23669 Filed 10-7-08; 8:45 am]

BILLING CODE 4910-22-P